DEPARTMENT OF LABOR

Employee Benefits Security Administration

Working Group on Health and Welfare Form 5500 Requirements, Advisory Council on Employee Welfare and Pension Benefits Plans; Notice of Meeting

Pursuant to the authority contained in Section 512 of the Employee Retirement Income Security Act of 1974 (ERISA), 29 U.S.C. 1142, a public teleconference meeting will be held on Friday, October 29, 2004, of the Advisory Council on Employee Welfare and Pension Benefit Plans Working Group assigned to study health and welfare Form 5500 requirements.

The session will take place in Room S4215-C, U.S. Department of Labor, 200 Constitution Avenue, NW., Washington, DC 20210. The purpose of the open meeting, which will run from 1 p.m. to approximately 4 p.m., is for Working Group members to discuss and conclude their report/recommendations for the Secretary of Labor.

Organizations or members of the public wishing to submit a written statement pertaining to the topic may do so by submitting 20 copies to Larry Good, Executive Secretary, ERISA Advisory Council, U.S. Department of Labor, Room N-5656, 200 Constitution Avenue, NW., Washington, DC 20210. Statements received on or before October 20, 2004 will be included in the record of the meeting. Individuals or representatives of organizations wishing to address the Working Group should forward their request to the Executive Secretary at the above address or via telephone at (202) 693-8668. Oral presentations will be limited to 20 minutes, but an extended statement may be submitted for the record. Individuals with disabilities who need special accommodations should contact Larry Good by October 20 at the address indicated in this notice.

Signed at Washington, DC this 5th day of October, 2004
Ann L. Combs,
Assistant Secretary, Employee Benefits Security Administration.

[FR Doc. 04-22793 Filed 10-8-04; 8:45 am]

BILLING CODE 4510-29-M